DEPARTMENT OF TRANSPORTATION

Pipeline and Hazardous Materials Safety Administration

[Docket No. PHMSA-2016-0064, Notice No. 2016-8]

Hazardous Materials: International Regulations for the Safe Transport of Radioactive Material (SSR-6); Draft Revision Available for Comment

AGENCY: Pipeline and Hazardous Materials Safety Administration (PHMSA), DOT.

ACTION: Notice; document availability and request for comments.

SUMMARY: PHMSA seeks public comment on a draft revision of the International Atomic Energy Agency's (IAEA) “Regulations for the Safe Transport of Radioactive Material” (SSR-6), which is scheduled for publication in 2018. PHMSA and the U.S. Nuclear Regulatory Commission (NRC) will submit comments jointly to the IAEA regarding the draft document. PHMSA thereby requests public input to assist in U.S. comment development.

DATES: Comments must be received on or before October 28, 2016. Comments received after this date will be considered if it is practical to do so; however, we are only able to assure consideration for comments received on or before this date.

ADDRESSES: You may submit comments by any of the following methods:

• Federal Rulemaking Portal: http://www.regulations.gov. Follow the instructions for submitting comments.

• Fax: 1-202-493-2251.

• Mail: Dockets Management System; U.S. Department of Transportation, Dockets Operations, M-30, Ground Floor, Room W12-140, 1200 New Jersey Avenue SE., Washington, DC 20590-0001.

• Hand Delivery: To U.S. Department of Transportation, Dockets Operations, M-30, Ground Floor, Room W12-140, 1200 New Jersey Avenue SE., Washington, DC 20590-0001, between 9:00 a.m. and 5:00 p.m., Monday through Friday, except Federal holidays.

Instructions: Include the agency name and docket number PHMSA-2016-0064 for this notice at the beginning of your comment. Note that all comments received will be posted without change to http://www.regulations.gov including any personal information provided. If sent by mail, comments must be submitted in duplicate. Persons wishing to receive confirmation of receipt of their comments must include a self-addressed stamped postcard.

Privacy Act: Anyone is able to search the electronic form of any written communications and comments received into any of our dockets by the name of the individual submitting the document (or signing the document, if submitted on behalf of an association, business, labor union, etc.). You may review DOT's complete Privacy Act Statement at http://www.dot.gov/privacy.

Docket: You may view the public docket through the Internet at http://www.regulations.gov or in person at the Docket Operations office at the above address (see ADDRESSES).

FOR FURTHER INFORMATION CONTACT: Mr. Rick Boyle, Engineering and Research Division, (202) 366-4545, Pipeline and Hazardous Materials Safety Administration, U.S. Department of Transportation, 1200 New Jersey Avenue SE., Washington, DC 20590-0001.

SUPPLEMENTARY INFORMATION:

I. Background

The IAEA works with its Member States and multiple partners worldwide to promote safe, secure, and peaceful nuclear technologies. The IAEA established and further maintains “Regulations for the Safe Transport of Radioactive Material” (SSR-6), which is an international standard promoting the safe and secure transportation of radioactive material. The IAEA periodically reviews and, as deemed appropriate, revises “Regulations for the Safe Transport of Radioactive Material” to reflect new information and accumulated experience. The DOT is the U.S. competent authority before the IAEA for radioactive material transportation matters. The NRC provides technical support to the DOT in this regard, particularly pertaining to Type B and fissile transportation packages.

The IAEA has released, for a 120-day Member State review, a draft revision of SSR-6 intended for publication in 2018. To assure opportunity for public involvement in the international regulatory development process, PHMSA requests input from the public on the proposed revisions to SSR-6 and solicits comment only on the changes made between the published 2012 edition and the draft 2018 edition. The public docket for this notice contains a redline/strikeout version of the 2018 draft showing the changes from the 2012 version.

Any comments made should refer to the relevant paragraph number in the draft 2018 edition and, when appropriate, include proposed alternative text. Please note that to date, PHMSA has harmonized the U.S. domestic hazardous materials regulations in 49 CFR with the 2009 edition of the IAEA regulations, as revised in 2014 [Docket No. PHMSA-2009-0063 (HM-250)]. The NRC is currently developing a rulemaking to harmonize with the 2012 edition of SSR-6. PHMSA may also develop a subsequent rulemaking to harmonize with the 2012 edition of SSR-6, but we are not currently considering adoption of the 2018 amendments. However, both the NRC and DOT will consider subsequent domestic compatibility rulemakings after IAEA's final publication of the 2018 revised SSR-6.

II. Public Participation

The ADDRESSES section of this notice specifies methods and instructions for submitting comments.

Comments must be submitted in writing (Microsoft Word file is the preferred format for electronic submissions) and should include the following:

• Name;

• Address;

• Relevant paragraph number in the document being reviewed; and

• When appropriate, proposed alternative text.

Commenters may also provide contact information, such as a telephone number and/or email address.

PHMSA and the NRC will review the comments received and, based in part on the information received, will develop comments on the revised draft of SSR-6 to be submitted to the IAEA.

Issued in Washington, DC, on September 8, 2016.
William S. Schoonover,
Acting Associate Administrator for Hazardous Materials Safety, Pipeline and Hazardous Materials Safety Administration.

[FR Doc. 2016-21960 Filed 9-12-16; 8:45 am]

BILLING CODE 4910-60-P